SMALL BUSINESS ADMINISTRATION

Data Collection Available for Public Comments

ACTION: 60-Day notice and request for comments

SUMMARY: The Small Business Administration (SBA) intends to request approval, from the Office of Management and Budget (OMB) for the collection of information described below. The Paperwork Reduction Act (PRA) of 1995, requires federal agencies to publish a notice in the Federal Register concerning each proposed collection of information before submission to OMB, and to allow 60 days for public comment in response to the notice. This notice complies with that requirement.

DATES: Submit comments on or before December 4, 2017.

ADDRESSES: Send all comments to Susan Suckfiel, Supervisory Financial Analyst, Office of Financial Program Operations, Small Business Administration, 409 3rd Street, 6th Floor, Washington, DC 20416.

FOR FURTHER INFORMATION CONTACT: Susan Suckfiel, Supervisory Financial Analyst, Office of Financial Program Operations, susan.suckfiel@sba.gov, 202-205-6443, or Curtis B. Rich, Management Analyst, 202-205-7030, curtis.rich@sba.gov.

SUPPLEMENTARY INFORMATION: This information collection is provided by SBA lenders and borrowers to provide basic loan information and certifications regarding the disbursement of loan proceeds. SBA relies on this information during the guaranty purchase review process as a component in determining whether to honor a loan guaranty.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

(1) Title: Settlement Sheet.

Description of Respondents: SBA Lenders and Borrowers.

Form Number: SBA Form 1050.

Total Estimated Annual Responses: 24,255.

Total Estimated Annual Hour Burden: 6,094.

Curtis B. Rich,
Management Analyst.

[FR Doc. 2017-21235 Filed 10-2-17; 8:45 am]

BILLING CODE 8025-01-P